DEPARTMENT OF COMMERCE

International Trade Administration

[C-508-605]

Notice of Extension of Time Limit for Countervailing Duty Administrative Review of Industrial Phosphoric Acid From Israel

AGENCY: Import Administration, International Trade Administration, Department of Commerce.

SUMMARY: The Department of Commerce (the Department) is extending the time limit for the final results of the administrative review of the countervailing duty order on industrial phosphoric acid from Israel, covering the period January 1, 1998 through December 31, 1998.

EFFECTIVE DATE: November 14, 2000.

FOR FURTHER INFORMATION CONTACT: Sean Carey, AD/CVD Enforcement Office 7, Import Administration, International Trade Administration, U.S. Department of Commerce, 14th Street and Constitution Avenue, NW., Washington, DC 20230, telephone: (202) 482-3964.

SUPPLEMENTARY INFORMATION: Under section 751(a)(3)(A) of the Tariff Act of 1930, as amended (the “Act”), the Department may extend the deadline for completion of an administrative review if it determines that it is not practicable to complete the review within the statutory time limit of 120 days after the date on which the notice of preliminary results was published in the Federal Register. In the instant case, the Department has determined that it is not practicable to complete the review within the statutory time limit. See Memorandum from Barbara E. Tillman to Joseph A. Spetrini (November 1, 2000). Therefore, pursuant to section 751(a)(3)(A) of the Act, the Department is extending the time limit for the final results to no later than March 5, 2001, which is 180 days after the publication date in the Federal Register of the notice of preliminary results for this review. The preliminary results were published in the Federal Register on September 6, 2000 (65 FR 53984).

Dated: November 1, 2000.
Joseph A. Spetrini,
Deputy Assistant Secretary for AD/CVD Enforcement Group III.

[FR Doc. 00-29081 Filed 11-13-00; 8:45 am]

BILLING CODE 3510-DS-P